DEPARTMENT OF COMMERCE

Foreign-Trade Zones Board

[Docket 27-2012]

Foreign-Trade Zone 149—Freeport, TX, Application for Reorganization Under Alternative Site Framework

An application has been submitted to the Foreign-Trade Zones (FTZ) Board (the Board) by Port Freeport, grantee of FTZ 149, requesting authority to reorganize the zone under the alternative site framework (ASF) adopted by the Board (74 FR 1170-1173, 01/12/09 (correction 74 FR 3987, 01/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on April 2, 2012.

FTZ 149 was approved by the Board on June 28, 1988 (Board Order 385, 53 FR 26096, 7/11/88), and expanded on August 7, 2001 (Board Order 1185, 66 FR 42994, 8/16/01), and on February 23, 2010 (Board Order 1666, 75 FR 12726, 3/17/10).

The current zone project includes the following sites: Site 1 (280 acres)—Port Freeport Primary Facility, 1001 Navigation Boulevard, Freeport; Site 2 (153.6 acres)—Freeport LNG Terminal, 1500 Lamar Street, Quintana; Site 3 (1,063.1 acres)—Port Freeport (Parcels 13, 14 & 19), State Highway 288, Freeport; Site 4 (242.2 acres)—Port Freeport (Parcels 27, 35, 39 & TEPPCO), located on Farm Market Road 1495, Freeport; Site 5 (212.9 acres)—Port Freeport (Parcel 30), located on County Road 723, Quintana; Site 6 (146 acres)—Texas Gulf Coast Regional Airport, located on County Road 220, Angleton; Site 7 (506 acres)—Pearland Northern Industrial Park, located on State Highway 35, Pearland; Site 8 (832 acres)—Pearland Southern Industrial Park, located on State Highway 35, Pearland; Site 9 (146 acres)—Pearland Bybee-Sterling Complex, located at the intersection of Hooper Road and Sam Houston Parkway, Pearland; Site 10 (8 acres)—Alvin Santa Fe Industrial Park, 200 Avenue I, Alvin; Site 11 (340 acres, sunset 2/28/2017)—International Industrial Park, located on State Highway 59 between Beasley and Kendleton; and, Site 12 (636 acres, sunset 2/28/2017)—KCS/CenterPoint Intermodal Center, located on State Highway 59 between Beasley and Kendleton.

The grantee's proposed service area under the ASF would be the Counties of Brazoria and Fort Bend, Texas. If approved, the grantee would be able to serve sites throughout the service area based on companies' needs for FTZ designation. The proposed service area is within and adjacent to the Freeport Customs and Border Protection port of entry.

The applicant is requesting authority to reorganize its zone project to include existing Sites 1, 3 and 10 as “magnet” sites. The ASF allows for the possible exemption of one magnet site from the “sunset” time limits that generally apply to sites under the ASF, and the applicant proposes that Site 1 be so exempted. The applicant is also requesting that Sites 2, 4, 5, 6, 7, 8, 9, 11 and 12 be removed from the zone project. No new magnet or usage-driven sites are being requested at this time. Because the ASF only pertains to establishing or reorganizing a general-purpose zone, the application would have no impact on FTZ 149's authorized subzones.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is June 8, 2012. Rebuttal comments in response to material submitted during the foregoing period may be submitted during the subsequent 15-day period to June 25, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: April 2, 2012.
Elizabeth Whiteman,
Acting Executive Secretary.

[FR Doc. 2012-8486 Filed 4-6-12; 8:45 am]

BILLING CODE P